DEPARTMENT OF THE INTERIOR

National Park Service

[NPS-WASO-NAGPRA-NPS0040185; PPWOCRADN0-PCU00RP14.R50000]

Notice of Inventory Completion: Fort Lewis College, Durango, CO

AGENCY: National Park Service, Interior.

ACTION: Notice.

SUMMARY: In accordance with the Native American Graves Protection and Repatriation Act (NAGPRA), Fort Lewis College has completed an inventory of human remains and has determined that there is a cultural affiliation between the human remains and Indian Tribes or Native Hawaiian organizations in this notice.

DATES: Repatriation of the human remains in this notice may occur on or after July 3, 2025.

ADDRESSES: Amy Cao, Fort Lewis College, 1000 Rim Drive, Durango, CO 81301, telephone (970) 247-7030, email arcao@fortlewis.edu.

SUPPLEMENTARY INFORMATION: This notice is published as part of the National Park Service's administrative responsibilities under NAGPRA. The determinations in this notice are the sole responsibility of Fort Lewis College, and additional information on the determinations in this notice, including the results of consultation, can be found in its inventory or related records. The National Park Service is not responsible for the determinations in this notice.

Abstract of Information Available

Human remains representing, at least, four individuals have been identified. No associated funerary objects are present.

In May 1975, human remains representing at minimum one individual were removed during a survey conducted on private land on Blue Mesa (WA-6, BM-005), south of Durango, Colorado in La Plata County under the direction of Dr. John Ives as part of a Fort Lewis College field school. This specific site within the survey was referred to as “WA-6 (BM-005)”. Collections from the survey have been held at Fort Lewis College since 1975.

At an unknown time, human remains representing at minimum one individual were removed from an unknown site in La Plata County, Colorado. The remains were identified in a box labeled “WLP (No other information available).” WLP refers to “West La Plata,” but no additional or specific site information is known. The remains have been in storage at Fort Lewis College since an unknown time before 2014, when the box containing them was noted on a general room inventory.

At an unknown time, human remains representing at minimum two individuals were removed from unknown sites. Remains representing one of the individuals were identified in a box holding miscellaneous archaeological materials from unknown sites. The other remains representing at minimum one individual were identified in another box labeled “Misc. Artifacts from Misc. and Unknown Sites.” The remains have been in collections storage at Fort Lewis College since an unknown time before 2014, when the boxes containing them were noted on a general room inventory.

Cultural Affiliation

Based on the information available and the results of consultation, cultural affiliation is reasonably identified by the geographical location or acquisition history of the human remains described in this notice.

Determinations

Fort Lewis College has determined that:

• The human remains described in this notice represent the physical remains of four individuals of Native American ancestry.

• There is a connection between the human remains described in this notice and the Hopi Tribe of Arizona; Jicarilla Apache Nation, New Mexico; Navajo Nation, Arizona, New Mexico, & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo; Southern Ute Indian Tribe of the Southern Ute Reservation, Colorado; Ute Indian Tribe of the Uintah & Ouray Reservation, Utah; Ute Mountain Ute Tribe; Ysleta del Sur Pueblo; and the Zuni Tribe of the Zuni Reservation, New Mexico.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after July 3, 2025. If competing requests for repatriation are received, Fort Lewis College must determine the most appropriate requestor prior to repatriation. Requests for joint repatriation of the human remains are considered a single request and not competing requests. Fort Lewis College is responsible for sending a copy of this notice to the Indian Tribes and Native Hawaiian organizations identified in this notice.

Authority: Native American Graves Protection and Repatriation Act, 25 U.S.C. 3003, and the implementing regulations, 43 CFR 10.10.

Dated: May 13, 2025.
Melanie O'Brien,
Manager, National NAGPRA Program.

[FR Doc. 2025-10010 Filed 6-2-25; 8:45 am]

BILLING CODE 4312-52-P